DEPARTMENT OF TRANSPORTATION

Federal Aviation Administration

14 CFR Part 39

[Docket No. FAA-2017-0770; Product Identifier 2017-NM-030-AD]

RIN 2120-AA64

Airworthiness Directives; The Boeing Company Airplanes

AGENCY: Federal Aviation Administration (FAA), DOT.

ACTION: Notice of proposed rulemaking (NPRM).

SUMMARY: We propose to supersede Airworthiness Directive (AD) 2014-03-07, which applies to certain The Boeing Company Model MD-11 and MD-11F airplanes. AD 2014-03-07 requires inspecting certain locations of the wire bundles of the center upper auxiliary fuel tank for damage, and corrective action if necessary. AD 2014-03-07 also requires installing nonmetallic barrier/shield sleeving, new clamps, new attaching hardware, and a new extruded channel. Since we issued AD 2014-03-07, we determined that it is necessary to require an inspection of the wire bundles for damage at additional center upper auxiliary fuel tank locations on certain airplanes. This proposed AD would add that inspection and expand the applicability. We are proposing this AD to address the unsafe condition on these products.

DATES: We must receive comments on this proposed AD by October 2, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740; telephone 562-797-1717; Internet https://www.myboeingfleet.com. You may view this referenced service information at the FAA, Transport Standards Branch, 1601 Lind Avenue SW., Renton, WA. For information on the availability of this material at the FAA, call 425-227-1221. It is also available on the Internet at http://www.regulations.gov by searching for and locating Docket No. FAA-2017-0770.

Examining the AD Docket

You may examine the AD docket on the Internet at http://www.regulations.gov by searching for and locating Docket No. FAA-2017-0770; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Samuel Lee, Aerospace Engineer, Propulsion Section, FAA, Los Angeles ACO Branch, 3960 Paramount Boulevard, Lakewood, CA 90712-4137; phone: 562-627-5262; fax: 562-627-5210; email: samuel.lee@faa.gov.

SUPPLEMENTARY INFORMATION:

Comments Invited

We invite you to send any written relevant data, views, or arguments about this proposal. Send your comments to an address listed under the ADDRESSES section. Include “Docket No. FAA-2017-0770; Product Identifier 2017-NM-030-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On January 21, 2014, we issued AD 2014-03-07, Amendment 39-17744 (79 FR 9392, February 19, 2014) (“AD 2014-03-07”), for certain The Boeing Company Model MD-11 and MD-11F airplanes. AD 2014-03-07 superseded AD 2009-26-16, Amendment 39-16155 (74 FR 69249, December 31, 2009). AD 2014-03-07 requires inspecting certain locations of the wire bundles of the center upper auxiliary fuel tank for damage, and corrective action if necessary. AD 2014-03-07 also requires installing nonmetallic barrier/shield sleeving, new clamps, new attaching hardware, and a new extruded channel. AD 2014-03-07 resulted from reports that identified additional locations where inspections and corrective actions of the center upper auxiliary fuel tank are needed. We issued AD 2014-03-07 to reduce the potential of ignition sources inside fuel tanks, which, in combination with flammable fuel vapors, could result in fuel tank explosions and consequent loss of the airplane.

Actions Since AD 2014-03-07 Was Issued

Since we issued AD 2014-03-07, we determined that, for certain airplanes, it is necessary to inspect the wire bundles at additional center upper auxiliary fuel tank locations for damage. We have also expanded the applicability to add one airplane (Line Number 579) that is also affected by the identified unsafe condition.

Related Service Information Under 1 CFR Part 51

We reviewed Boeing Service Bulletin MD11-28-126, Revision 6, dated July 1, 2016. This service information describes procedures for inspecting certain wire bundles of the center auxiliary fuel tank for damage, and repairing or replacing damaged wires. This service information also describes procedures for installing barrier/shield sleeving, clamping, and an extruded channel. This service information is reasonably available because the interested parties have access to it through their normal course of business or by the means identified in the ADDRESSES section.

FAA's Determination

We are proposing this AD because we evaluated all the relevant information and determined the unsafe condition described previously is likely to exist or develop in other products of the same type design.

Proposed AD Requirements

This proposed AD would retain all requirements of AD 2014-03-07. This proposed AD would add inspection requirements for certain airplanes and expand the applicability. This proposed AD would require accomplishing the actions specified in the service information described previously, except as discussed under “Difference between this Proposed AD and Service Information.” For information on the procedures and compliance times, see this service information at http://www.regulations.gov by searching for and locating Docket No. FAA-2017-0770.

Difference Between This Proposed AD and Service Information

Boeing Service Bulletin MD11-28-126, Revision 6, dated July 1, 2016, specifies to contact the manufacturer for certain instructions, but this proposed AD would require using repair methods, modification deviations, and alteration deviations in one of the following ways:

• In accordance with a method that we approve; or

• Using data that meet the certification basis of the airplane, and that have been approved by the Boeing Commercial Airplanes Organization Designation Authorization (ODA) whom we have authorized to make those findings.

Costs of Compliance

We estimate that this proposed AD affects 125 airplanes of U.S. registry. We estimate the following costs to comply with this proposed AD:

Estimated Costs
Action | Labor cost | Parts cost | Cost per product | Cost on U.S. operators
Inspection/installation [retained actions from AD 2009-26-16, Amendment 39-16155 (74 FR 69249, December 31, 2009)] | 168 to 182 work-hours × $85 per hour = $14,280 to $15,470 per inspection cycle | $15,708 to $28,005 | $29,988 to $43,475 per inspection cycle | $3,748,500 to $5,434,375 per inspection cycle.
Inspection/installation for Groups 1, 2, and 5, all Configuration 2 airplanes (retained actions from AD 2014-03-07) | Up to 9 work-hours × $85 per hour = $765 | $6,166 | Up to $6,931 | Up to $866,375.
Inspection/installation for Groups 1, 2, and 5, all Configuration 2 airplanes (new proposed action) | Up to 4 work-hours × $85 per hour = $340 | $0 | Up to $340 | Up to $42,500.
Inspection/installation for Line Number 579 (new proposed action) | 4 work-hours × $85 per hour = $340 | $28,005 | $340 | $28,345.

We have received no definitive data that would enable us to provide cost estimates for the on-condition actions specified in this proposed AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-03-07, Amendment 39-17744 (79 FR 9392, February 19, 2014), and adding the following new AD:

The Boeing Company: Docket No. FAA-2017-0770; Product Identifier 2017-NM-030-AD.

(a) Comments Due Date

The FAA must receive comments on this AD action by October 2, 2017.

(b) Affected ADs

This AD replaces AD 2014-03-07, Amendment 39-17744 (79 FR 9392, February 19, 2014) (“AD 2014-03-07”).

(c) Applicability

This AD applies to The Boeing Company Model MD-11 and MD-11F airplanes, certificated in any category, as identified in Boeing Service Bulletin MD11-28-126, Revision 6, dated July 1, 2016.

(d) Subject

Air Transport Association (ATA) of America Code 28, Fuel.

(e) Unsafe Condition

This AD was prompted by fuel system reviews conducted by the manufacturer that indicated the need to inspect wire bundles at certain locations of the center upper auxiliary fuel tanks in addition to inspection locations required by AD 2014-03-07. We are issuing this AD to reduce the potential of ignition sources inside fuel tanks, which, in combination with flammable fuel vapors, could result in fuel tank explosions and consequent loss of the airplane.

(f) Compliance

Comply with this AD within the compliance times specified, unless already done.

(g) Retained Inspection and Corrective Action, With Revised Service Information

This paragraph restates the requirements of paragraph (g) of AD 2014-03-07, with revised service information. For airplanes identified in Boeing Service Bulletin MD11-28-126, Revision 1, dated June 18, 2009: Within 60 months after February 4, 2010 (the effective date of AD 2009-26-16, Amendment 39-16155 (74 FR 69249, December 31, 2009)), do the actions specified in paragraphs (g)(1) through (g)(5) of this AD, and do all applicable corrective actions, in accordance with the Accomplishment Instructions of Boeing Service Bulletin MD11-28-126, Revision 1, dated June 18, 2009; Revision 4, dated November 29, 2011; or Revision 6, dated July 1, 2016; except as required by paragraph (k) of this AD. As of the effective date of this AD, only Boeing Service Bulletin MD11-28-126, Revision 6, dated July 1, 2016, may be used. Do all applicable corrective actions before further flight.

(1) Do a general visual inspection of the wire bundles between Stations 1238.950 and 1361.000 to determine if wires touch the upper surface of the center upper auxiliary fuel tank, and mark the location, as applicable.

(2) Do a detailed inspection for splices and damage of all wire bundles above the center upper auxiliary fuel tank between Stations 1218.950 and 1381.000.

(3) Do a detailed inspection for damage (burn marks) of the upper surface of the center upper auxiliary fuel tank.

(4) Do a detailed inspection for damage (burn marks) on the fuel vapor barrier seal.

(5) Install a nonmetallic barrier/shield sleeving, new clamps, new attaching hardware, and a new extruded channel.

(h) Retained Additional Inspections and Corrective Action, With Revised Service Information

This paragraph restates the requirements of paragraph (h) of AD 2014-03-07, with revised service information. For airplanes in Group 1, Configuration 2; Group 2, Configuration 2; and Group 5, Configuration 2; as identified in Boeing Service Bulletin MD11-28-126, Revision 4, dated November 29, 2011: Within 60 months after March 26, 2014 (the effective date of AD 2014-03-07), do a detailed inspection of wire bundles for splices and damage (chafing, arcing, and broken insulation) and damage (burn marks) on the upper surface of the center upper auxiliary fuel tank and fuel vapor barrier seal; install barrier/shield sleeving and clamping; and do all applicable corrective actions at the applicable locations specified in paragraphs (h)(1) through (h)(3) of this AD, in accordance with the Accomplishment Instructions of Boeing Service Bulletin MD11-28-126, Revision 4, dated November 29, 2011; or Boeing Service Bulletin MD11-28-126, Revision 6, dated July 1, 2016; except as required by paragraph (k) of this AD. As of the effective date of this AD, only Boeing Service Bulletin MD11-28-126, Revision 6, dated July 1, 2016, may be used for the actions required by this paragraph. Do all applicable corrective actions before further flight.

(1) For Group 1, Configuration 2 airplanes, between Stations 1238.950 and 1381.000, Stations 1238.950 and 1256.000, and Stations 1238.950 and 1256.800, depending on passenger or freighter configuration.

(2) For Group 2, Configuration 2 airplanes, between Stations 1238.950 and 1275.250, and Stations 1238.950 and 1275.250, passenger configuration only.

(3) For Group 5, Configuration 2 airplanes, between Stations 1381.000 and 1238.950.

(i) New Inspections and Corrective Actions for Certain Airplanes

For Groups 1, 2, and 5 Configuration 2 airplanes, as identified in Boeing Service Bulletin MD11-28-126, Revision 6, dated July 1, 2016: Within 60 months after the effective date of this AD, do the actions required by paragraphs (i)(1) and (i)(2) of this AD, in accordance with the Accomplishment Instructions of Boeing Service Bulletin MD11-28-126, Revision 6, dated July 1, 2016.

(1) Do a general visual inspection of the wire bundles at the additional center upper auxiliary fuel tank locations to determine if wires touch the upper surface of the fuel tank, and mark the location as applicable.

(2) Do a detailed inspection of the wire bundles for splices and damage on the upper surface of the center upper auxiliary fuel tank and fuel vapor barrier seal; install barrier/shield sleeving, clamping, and extruded channels, as applicable; and do all applicable corrective actions before further flight; except as required by paragraph (k) of this AD.

(j) New Requirements for Line Number 579

For airplane Line Number 579: Within 60 months after the effective date of this AD, do the actions specified in paragraphs (g)(1) through (g)(5) of this AD, and do all applicable corrective actions, in accordance with the Accomplishment Instructions of Boeing Service Bulletin MD11-28-126, Revision 6, dated July 1, 2016, except as required by paragraph (k) of this AD. Do all applicable corrective actions before further flight.

(k) Exception to Service Information Specifications

Where Boeing Service Bulletin MD11-28-126, Revision 1, dated June 18, 2009; Boeing Service Bulletin MD11-28-126, Revision 4, dated November 29, 2011; or Boeing Service Bulletin MD11-28-126, Revision 6, dated July 1, 2016; specifies to contact The Boeing Company for repair instructions: Before further flight, repair the auxiliary fuel tank using a method approved in accordance with the procedures specified in paragraph (m) of this AD.

(l) Credit for Previous Actions

(1) This paragraph provides credit for actions required by paragraph (g) of this AD, if those actions were performed before March 26, 2014 (the effective date of AD 2014-03-07), using the service information specified in paragraphs (l)(1)(i) or (l)(1)(ii) of this AD.

(i) Boeing Service Bulletin MD11-28-126, Revision 2, dated November 18, 2010.

(ii) Boeing Service Bulletin MD11-28-126, Revision 3, dated June 3, 2011.

(2) This paragraph provides credit for actions required by paragraph (h) of this AD, if those actions were performed before March 26, 2014 (the effective date of AD 2014-03-07), using Boeing Service Bulletin MD11-28-126, Revision 3, dated June 3, 2011.

(m) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (n)(1) of this AD. Information may be emailed to: 9ANM-LAACO-AMOC-Requests@faa.gov.

(2) Before using any approved AMOC, notify your appropriate principal inspector, or lacking a principal inspector, the manager of the local flight standards district office/certificate holding district office.

(3) AMOCs approved previously for AD 2014-03-07 are approved as AMOCs for the corresponding provisions of this AD.

(n) Related Information

(1) For more information about this AD, contact Samuel Lee, Aerospace Engineer, Propulsion Section, FAA, Los Angeles ACO Branch, 3960 Paramount Boulevard, Lakewood, CA 90712-4137; phone: 562-627-5262; fax: 562-627-5210; email: samuel.lee@faa.gov.

(2) For service information identified in this AD, contact Boeing Commercial Airplanes, Attention: Contractual & Data Services (C&DS), 2600 Westminster Blvd., MC 110-SK57, Seal Beach, CA 90740; telephone 562-797-1717; Internet https://www.myboeingfleet.com. You may view this referenced service information at the FAA, Transport Standards Branch, 1601 Lind Avenue SW., Renton, WA. For information on the availability of this material at the FAA, call 425-227-1221.

Issued in Renton, Washington, on July 28, 2017.
John P. Piccola, Jr.,
Acting Director, System Oversight Division, Aircraft Certification Service.

[FR Doc. 2017-16560 Filed 8-16-17; 8:45 am]

BILLING CODE 4910-13-P